ENVIRONMENTAL PROTECTION AGENCY

40 CFR Part 52

[TX-28-1-7537, FRL-7049-1]

Approval and Promulgation of Implementation Plans; Texas; Withdrawal of Direct Final Rule

AGENCY: Environmental Protection Agency (EPA).

ACTION: Withdrawal of direct final rule.

SUMMARY: Due to an adverse comment, EPA is withdrawing the direct final rule to approve the Vehicle Miles Traveled Offset State Implementation Plan for the Houston/Galveston Ozone Nonattainment area. In the direct final rule published on July 10, 2001 (66 FR 35903), we stated that if we received adverse comment by August 9, 2001, the rule would be withdrawn and not take effect. EPA subsequently received an adverse comment. EPA will address the comment received in a subsequent final action based upon the proposed action also published on July 10, 2001 (66 FR 35920). EPA will not institute a second comment period on this action.

DATES: The direct final rule published July 10, 2001, at 66 FR 35903 is withdrawn as of September 4, 2001.

FOR FURTHER INFORMATION CONTACT: Bill Deese, Environmental Protection Agency, Region 6, Air Planning Section (6PD-L), 1445 Ross Avenue, Dallas, Texas 75202-2733. Phone (214) 665-7253.

List of Subjects in 40 CFR Part 52

Environmental protection, Air pollution control, Hydrocarbons, Incorporation by Reference, Intergovernmental relations, Nitrogen oxides, Ozone, Reporting and recordkeeping requirements, Volatile organic compounds.

Dated: August 24, 2001.
Gregg A. Cooke,
Regional Administrator, Region 6.

Accordingly, the amendment to the table in § 52.2270(e) which added the entry for Vehicle Miles Traveled Offset Plan for the Houston/Galveston Ozone nonattainment area is withdrawn as of September 4, 2001.

[FR Doc. 01-22133 Filed 8-31-01; 8:45 am]

BILLING CODE 6560-50-P